DEPARTMENT OF HEALTH AND HUMAN SERVICES

Administration for Children and Families

Proposed Information Collection Activity; Comment Request

Proposed Projects

Title: Follow-Up Study of Issues Affecting the Duration of Child Care Subsidy Use.

OMB No.: New Collection.

Description: Child care subsidies provide an important benefit to low-income working families, offering them increased access to forms of child care that would otherwise be beyond their means. However, recent research suggests that, for many families, this benefit may be short-lived or unstable. There are many possible explanations for these patterns, and the explanations may be different for different types of families.

Recognizing that information about the reasons for short subsidy duration would be helpful to States, the Child Care Bureau has funded Abt Associates Inc. to conduct a two-State investigative study on the duration and use of child care subsidies. This study will, in the short term, provide States with information to shape or modify their child care subsidy procedures. In addition, the study will generate hypotheses that could be systematically tested in later research.

The study will examine the use of child care subsidies by 840 families in Illinois and 840 in Oregon. In each State, the sample will be a representative sample of current Temporary Assistance for Needy Families (TANF) families and non-TANF families—all of whom apply and are approved for subsidies and who use them for at least one month. Families will be contacted by telephone approximately nine months after they began using subsidies and will be asked to participate in the study. If they agree, a 45-minute telephone interview will ensue immediately or will be scheduled. It is expected that, after the nine months, over half of the families will no longer be using subsidies. Patterns of subsidy use prior to and during the study period will be tracked through State administrative data.

The parent telephone interview will include questions about parents' employment, subsidy status and experience, child care usage, and changes in household composition over the nine-month period. Although the analyses will rely heavily on identification of trigger events, the survey will include questions about other less tangible considerations that may have influenced the duration of parents' subsidy use. Telephone interviews will be conducted using Computer-Assisted-Telephone Interviewing (CATI). Responses are voluntary and confidential.

The study will also analyze State administrative data on all families who are approved for subsidies during the recruitment period for the study. This will allow the researchers to assess the generalizability of the smaller sample of families recruited for the study.

No existing data sources can provide all the information needed to complete the Follow-Up Study of Issues Affecting the Duration of Child Care Subsidy Use. These data will help the Child Care Bureau and States to better understand reasons for short child care subsidy duration.

Annual Burden Estimates
Instrument | Number of respondents | Number or responses per respondent | Average burden hours per response (hours) | Total burden hours
Illinois parent survey | 840 | 1 | .75 | 630
Oregon parent survey | 840 | 1 | .75 | 630
Estimated Total Annual Burden Hours: |  |  |  | 1,260

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the sue of automated collection techniques or other forms of information technology. Consideration will be given to comments and suggestions submitted within 60 days of this publication.

Dated: January 30, 2006.
Robert Sargis,
Reports Clearance Officer.

[FR Doc. 06-1011 Filed 2-2-06; 8:45am]

BILLING CODE 4184-01-M